NATIONAL AERONAUTICS AND SPACE ADMINISTRATION

[Notice 03-112]

Notice of Prospective Patent License

AGENCY: National Aeronautics and Space Administration.

ACTION: Notice of prospective patent license.

SUMMARY: NASA hereby gives notice that IVEK Corporation of 10 Fairbanks Road, N. Springfield, Vermont 05150, has applied for a partially exclusive license to practice the inventions described in NASA Case Numbers LAR 16289-1 entitled “Electro-Active Transducer Using Radial Electric Field To Produce/Sense Out-of-Plane Transducer Motion,” LAR 16363-1 entitled “Electro-Active Device Using Radial Electric Field Piezo-Diaphragm For Control Of Fluid Movement,” LAR 16393-1 entitled “Electro-Active Device Using Radial Electric Field Piezo-Diaphragm For Sonic Applications,” LAR 16289-1-PCT entitled “Electro-Active Transducer Using Radial Electric Field To Produce/Sense Out-of-Plane Transducer Motion,” LAR 16363-1PCT entitled “Electro-Active Device Using Radial Electric Field Piezo-Diaphragm For Control Of Fluid Movement,” and LAR 16393-1-PCT entitled “Electro-Active Device Using Radial Electric Field Piezo-Diaphragm For Sonic Applications” for which U.S. Patent and PCT Applications were filed and assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by October 6, 2003.

FOR FURTHER INFORMATION CONTACT: Kurt G. Hammerle, Patent Attorney, Mail Stop 212, NASA Langley Research Center, Hampton, VA 23681-2199. Telephone 757-864-2470; Fax 757-864-9190.

Dated: September 12, 2003.
Robert M. Stephens,
Deputy General Counsel.

[FR Doc. 03-23909 Filed 9-18-03; 8:45 am]

BILLING CODE 7510-01-P